DEPARTMENT OF HEALTH AND HUMAN SERVICES

Centers for Medicare & Medicaid Services

[Document Identifiers: CMS-10114 and CMS-10829]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by September 30, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ______, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10114 National Provider Identifier (NPI) Application and Update Form and Supporting Regs in 45 CFR 142.408, 45 CFR 162.408, 45 CFR 162.406

CMS-10829 Improper Payment Pre-Testing and Assessment (IPPTA) Data Request Form

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Extension of a currently approved information collection; Title of Information Collection: National Provider Identifier (NPI) Application and Update Form and Supporting Regs in 45 CFR 142.408, 45 CFR 162.408, 45 CFR 162.406; Use: The adoption by the Secretary of HHS of the standard unique health identifier for health care providers is a requirement of the Health Insurance Portability and Accountability Act of 1996 (HIPAA). The unique identifier is to be used on standard transactions and may be used for other lawful purposes in the health care system. The CMS Final Rule published on January 23, 2004, adopts the National Provider Identifier (NPI) as the standard unique health identifier for health care providers. Health care providers that are covered entities under HIPAA must apply for and use NPIs in standard transactions. Other health care providers are eligible for NPIs but are not required by regulation to apply for them or use them. Health care providers began applying for NPIs on May 23, 2005.

The National Provider Identifier Application and Update Form is used by health care providers to apply for NPIs and furnish updates to the information they supplied on their initial applications. The form is also used to deactivate their NPIs if necessary. The original application form was approved in February 2005 and has been in use since May 23, 2005. The form is available on paper or can be completed via a web-based process. Health care providers can mail a paper application, complete the application via the web-based process via the National Plan and Provider Enumeration System (NPPES), or have a trusted organization submit the application on their behalf via the Electronic File Interchange (EFI) process. The Enumerator uses the NPPES to process the application and generate the NPI. NPPES is the Medicare contractor tasked with issuing NPIs, and maintaining and storing NPI data. Form Number: CMS-10114 (OMB control number: 0938-0931); Frequency: Occasionally; Affected Public: Business or other for-profits, Not for-profits and Federal Government; Number of Respondents: 1,275,912; Number of Responses: 1,275,912; Total Annual Hours: 298,777. (For policy questions regarding this collection contact Da'Vona Boyd at 410-786-7483).

2. Type of Information Collection Request: Revision of an approved information collection; Title of Information Collection: Improper Payment Pre-Testing and Assessment (IPPTA) Data Request Form; Use: To comply with the Payment Integrity Information Act of 2019 (PIIA), HHS finalized the IPPTA to prepare State Exchanges for the measurement of improper payments of advance payments of the premium tax credit (APTC), to test processes and procedures that support HHS's review of determinations of APTC made by State Exchanges, and to provide a mechanism for HHS and State Exchanges to share information that would aid in developing an efficient measurement process. The PIIA requires executive agencies to report on Federal programs susceptible to significant improper payments. The APTC program was identified as a Federal program susceptible to significant improper payments. Currently in operation are 19 State Exchanges, which do not use the Federal platform to perform eligibility and enrollment determinations. Each State Exchange was selected to participate in the IPPTA data collection for a period of 2 calendar years, which began in 2024 or will begin in 2025 depending on which group the State Exchange is assigned. HHS has revised the approved data request form to include new instructions and a data mapping tool to aid State Exchanges in their understanding and collecting of necessary data. This collection of data and data documentation is intended to allow HHS to test the data elements as specified in the scenarios provided to each State Exchange in the pre-testing and assessment data request form to enable HHS to comply with the requirements of the Payment Integrity Information Act of 2019 (PIIA) and implementing guidance. Form Number: CMS-10829 (OMB control number: 0938-1439); Frequency: Annually; Affected Public: State, Local, and Federal Government; Number of Respondents: 11; Number of Responses: 11; Total Annual Hours: 265. (For policy questions regarding this collection contact Halina DeSantis at 410-786-1000).

William N. Parham, III,
Director, Division of Information Collections and Regulatory Impacts, Office of Strategic Operations and Regulatory Affairs.

[FR Doc. 2024-16736 Filed 7-29-24; 8:45 am]

BILLING CODE 4120-01-P